DEPARTMENT OF JUSTICE

Notice of Lodging of Amendments to Consent Decree

Notice is hereby given that on February 21, 2002, amendments to the consent Decree filed in United States v. Marine Shale Processors, Inc., Civ. No. CV90-1240, were lodged with the United States District Court for the Western District of Louisiana. The original Consent Decree was filed on February 19, 1998, and was modified by an Order of the Court dated February 23, 1999, and again on June 13, 2001.

In this action against Marine Shale Processors, Inc., (“MSP”) the United States sought to recover civil penalties and enjoin violations of the Resource Conservation and Recovery Act (“RCRA”), 42 U.S.C. 6901 et seq., the Clean Water Act, 33 U.S.C. 1251 et seq., and the Clean Air Act, 42 U.S.C. 7413. The United States also sought relief under the Comprehensive Environmental Response, Compensation, and Liability Act (“CERCLA”), 42 U.S.C. 9604, 9606, and 9607. MSP operated a facility in Morgan City, Louisiana that treated hazardous waste by combustion.

These amendments would extend: (1) The date for the purchase of the facility from MSP, and (2) the date by which Earthlock may make a Continuation Election. Under these proposed amendments, on or before March 22, 2002, Earthlock must either make a Continuation Election, seek a Vacating Order, or seek an extension until April 22, 2002 in which to make its decision. If Earthlock seeks an extension until April 22, and subsequently seeks a Vacating Order, Earthlock would be required to pay the sum of $50,000 to Plaintiffs.

The Department of Justice will receive comments relating to these amendments until noon on March 21, 2002. Comments should be addressed to the Assistant Attorney General of the Environment and Natural Resources Division, Department of Justice, Washington, DC 20530, and should refer to United States v. Marine Shale Processors, Inc., D.J. Ref. 90-11-2-204. Comments may be sent via telecopier to Darlene Lyons, fax number (202) 514-2583, phone confirmation no. (202) 514-1605.

The consent decree amendments may be examined at the Office of the United States Attorney, Hale Boggs Federal Building, 501 Magazine Street, New Orleans, LA 70130, at U.S. EPA Region VI, 1445 Ross Avenue Dallas, TX 75202-2733, and at the Consent Decree Library, P.O. Box 7611, U.S. Department of Justice, Washington, DC 20044-7611. A copy of the consent decree amendments may be obtained by mail from the Consent Decree Library, P.O. Box 7611, U.S. Department of Justice, Washington, DC 20044-7611. A copy of the proposed Consent Decree may also be obtained by faxing a request to Tonia Fleetwood, Department of Justice Consent Decree Library, fax no. (202) 616-6584; phone confirmation no. (202) 514-1547. There is a charge for the copy (25 cent per page reproduction cost). Upon requesting a copy, please mail a check payable to the “U.S. Treasury”, in the amount of $1.50 to: Consent Decree Library, U.S. Department of Justice, P.O. Box 7611, Washington, DC 20044-7611. The check should refer to United States v. Marine Shale Processors, Inc., D.J. Ref. 90-11-2-204.

Thomas A. Mariani, Jr.,
Assistant Chief, Environmental Enforcement Section, Environment and Natural Resources Division.

[FR Doc. 02-6045 Filed 3-12-02; 8:45 am]

BILLING CODE 4410-15-M